DEPARTMENT OF LABOR

Employment and Training Administration

[TA-W-70,751]

Freeport McMoran Copper and Gold, Tyrone, NM; Notice of Termination of Investigation

Pursuant to Section 223 of the Trade Act of 1974, as amended, an investigation was initiated on May 29, 2009, in response to a worker petition filed on behalf of workers of Freeport McMoran Copper and Gold, Tyrone, New Mexico.

The petitioning group of workers is covered by an earlier petition (TA-W-70,264) filed on May 21, 2009, that is the subject of an ongoing investigation for which a determination has not yet been issued. Consequently, further investigation in this case would serve no purpose, and the investigation under this petition has been terminated.

Signed at Washington, DC, this 6th day of July 2009.
Richard Church,
Certifying Officer, Division of Trade Adjustment Assistance.

[FR Doc. E9-18050 Filed 7-28-09; 8:45 am]

BILLING CODE 4510-FN-P